DEPARTMENT OF TRANSPORTATION

National Highway Traffic Safety Administration

49 CFR Part 595

[Docket No. NHTSA-2010-0075]

Make Inoperative Exemptions; Vehicle Modifications To Accommodate People With Disabilities

AGENCY: National Highway Traffic Safety Administration (NHTSA), Department of Transportation.

ACTION: Technical amendment.

SUMMARY: This document corrects several cross-references in the agency's regulation exempting specified modifications for handicapped persons from the “make inoperative” prohibition of the National Traffic and Motor Vehicle Safety Act. This action responds to a letter from the National Mobility Equipment Dealers Association to correct the regulation.

DATES: This rule is effective September 7, 2010.

FOR FURTHER INFORMATION CONTACT: Shelley Bolbrugge, NHTSA Office of Crash Avoidance Standards, NVS-123 (telephone 202-366-9146, fax 202-493-2739), or Deirdre Fujita, NHTSA Office of Chief Counsel, NCC-112 (telephone 202-366-2992, fax 202-366-3820). The mailing address for these officials is: NHTSA, 1200 New Jersey Avenue, SE., Washington, DC 20590.

SUPPLEMENTARY INFORMATION: On September 26, 2008, the National Mobility Equipment Dealers Association (NMEDA) wrote to NHTSA requesting that the agency correct certain references in 49 CFR Part 595 Subpart C, “Make Inoperative Exemptions, Vehicle Modifications to Accommodate People with Disabilities.” This regulation sets forth exemptions from the “make inoperative” provision (49 U.S.C. 30122(c)) of the National Traffic and Motor Vehicle Safety Act (49 U.S.C. Chapter 301, “Safety Act”) to permit, under limited circumstances, vehicle modifications that take the vehicles out of compliance with certain Federal motor vehicle safety standards (FMVSSs) when the vehicles are modified to be used by persons with disabilities. Modifiers are exempted from the make inoperative provision of the Safety Act to the extent that the modifications affect the vehicle's compliance with the FMVSSs specified in 49 CFR 595.7(c).

Since the time that 49 CFR part 595 subpart C was issued in 2001, various standards referenced in 595.7(c) have been amended, some in a way that affected the numbering of the paragraphs in the standards. Because conforming changes were not always made to 595.7(c) to reflect the renumbered standard, some of the references in section 595.7(c) are outdated and incorrect. NMEDA asks NHTSA to address these incorrect references in 595.7(c).

This document makes the necessary corrections. There is no safety impact associated with this amendment. After reviewing the NMEDA letter, we have determined that references to FMVSS No. 101, Controls and displays, FMVSS No. 114, Theft protection, and FMVSS No. 208, Occupant crash protection, are in need of correction. The regulation is amended such that its references are aligned with FMVSS No. 101 as amended on August 17, 2005 (70 FR 48305) and on May 15, 2006 (71 FR 27971), with FMVSS 114 as amended on April 7, 2006 (71 FR 17752), and with FMVSS No. 208 as amended on January 6, 2003 (68 FR 513). We are also correcting the agency's address in § 595.6(a).

List of Subjects in 49 CFR Part 595

Motor vehicle safety, Motor vehicles.

Accordingly, 49 CFR Part 595 is corrected by making the following correcting amendments:

PART 595—MAKE INOPERATIVE EXEMPTIONS

1. The authority citation for Part 595 continues to read as follows:

Authority: 49 U.S.C. 322, 30111, 30115, 30117, 30122 and 30166; delegation of authority at 49 CFR 1.50.

2. The introductory text of paragraph (a) of § 595.6 is revised to read as follows:

§ 595.6 Modifier identification.

(a) Any motor vehicle repair business that modifies a motor vehicle to enable a person with a disability to operate, or ride as a passenger in, the motor vehicle and intends to avail itself of the exemption provided in 49 CFR 595.7 shall furnish the information specified in paragraphs (a)(1) through (3) of this section to: Administrator, National Highway Traffic Safety Administration, 1200 New Jersey Avenue, SE., Washington, DC 20590.

* * * * *

3. Section 595.7 is amended by revising paragraphs (c)(1), (c)(3), and (c)(14) to read as follows:

§ 595.7 Requirements for vehicle modifications to accommodate people with disabilities.

* * * * *

(c)(1) 49 CFR 571.101, except for S5.2.1, S5.3.1, S5.3.4, S5.4.1, and S5.4.3 of that section.

* * * * *

(3) S5.1.2 and S5.1.3 of 49 CFR 571.114, in any case in which the original key locking system must be modified.

* * * * *

(14) S4.1.5.1(a)(1), S4.1.5.1(a)(3), S4.2.6.2, S5, S7.1, S7.2, S7.4, S14, S15, S16, S17, S18, S19, S20, S21, S22, S23, S24, S25, S26 and S27 of 49 CFR 571.208 for the designated seating position modified, provided Type 2 or Type 2A seat belts meeting the requirements of 49 CFR 571.209 and 571.210 are installed at that position.

* * * * *

Issued on: July 29, 2010.
Stephen R. Kratzke,
Associate Administrator for Rulemaking.

[FR Doc. 2010-19344 Filed 8-5-10; 8:45 am]

BILLING CODE 4910-59-P